DEPARTMENT OF ENERGY

Federal Energy Regulatory Commission

[Docket No. RP02-330-000]

ANR Pipeline Company; Notice of Tariff Filing

May 7, 2002.

Take notice that on May 1, 2002, ANR Pipeline Company (ANR), 9 E. Greenway Plaza, Houston, Texas 77046, tendered for filing Eighteenth Revised Sheet No. 19 for inclusion in ANR's FERC Gas Tariff, Second Revised Volume No. 1. ANR requests that this tariff sheet be made effective June 1, 2002. ANR states that it is proposing to modify its Tariff to provide for a general waiver of the charge for Transporter's Use on transportation services provided on ANR's off-system 12-mile lateral located between ANR's Link Meter Station and ANR's Corunna Interconnect Point in St. Clair, Michigan (the “Link Lateral”).

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11858 Filed 5-10-02; 8:45 am]

BILLING CODE 6717-01-P